ENVIRONMENTAL PROTECTION AGENCY

[ER-FRL-9042-4]

Environmental Impact Statements; Notice of Availability

Responsible Agency: Office of Federal

Activities, General Information 202-564-7156 or https://www.epa.gov/nepa/

Weekly receipt of Environmental Impact Statements Filed 11/12/2018 through 11/16/2018 Pursuant to 40 CFR 1506.9.

Notice:

Section 309(a) of the Clean Air Act requires that EPA make public its comments on EISs issued by other Federal agencies. EPA's comment letters on EISs are available at: https://cdxnodengn.epa.gov/cdx-enepa-public/action/eis/search.

EIS No. 20180276, Draft, FERC, LA, The Plaquemines LNG and Gator Express Pipeline Project, Comment Period Ends: 01/07/2019, Contact: Office of External Affairs 866-208-3372.

EIS No. 20180277, Draft, USFS, BLM, ID, Proposed Dairy Syncline Mine and Reclamation Plan, Comment Period Ends: 02/21/2019, Contact: Bill Stout 208-478-6367.

EIS No. 20180278, Draft, FERC, MS, Gulf LNG Liquefaction Project, Comment Period Ends: 01/07/2019, Contact: Office of External Affairs 866-208-3372.

EIS No. 20180279, Draft, BIA, MI, Little River Band of Ottawa Indians Trust Acquisition and Casino Project, Comment Period Ends: 01/07/2019, Contact: Scott Doig 612-725-4514.

EIS No. 20180280, Draft, FERC, FL, Eagle LNG Partners Jacksonville, LLC, Comment Period Ends: 01/07/2019, Contact: Office of External Affairs 866-208-3372.

EIS No. 20180281, Final, USFS, MT, The Flathead National Forest Land Management Plan and the NCDE Grizzly Bear Plan Amendments, Review Period Ends: 12/24/2018, Contact: Chip Weber 406-758-5204.

EIS No. 20180282, Final, USACE, IL, The Great Lakes and Mississippi River Interbasin Study—Brandon Road Integrated Feasibility Study and Environmental Impact Statement—Will County, Illinois, Review Period Ends: 12/24/2018, Contact: Andrew Leichty 309-794-5399.

Dated: November 19, 2018.
Robert Tomiak,
Director, Office of Federal Activities.

[FR Doc. 2018-25501 Filed 11-21-18; 8:45 am]

BILLING CODE 6560-50-P